FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011742-004.

Title: P&O Nedlloyd-Farrell/Hapag-Lloyd/Zim Mediterranean Space Charter Agreement.

Parties: Hapag-Lloyd Container Linie GmbH; P&O Nedlloyd Limited; P&O Nedlloyd B.V.; Farrell Lines, Inc.; and Zim Integrated Shipping Services, Ltd.

Filing Party: Wayne R. Rohde, Esq.; Sher & Blackwell; 1850 M Street, NW., Suite 900; Washington, DC 20036.

Synopsis: The proposed modification would reduce the amount of space exchanged under the agreement.

Agreement No.: 011852-015.

Title: Maritime Security Discussion Agreement.

Parties: China Shipping Container Lines, Co., Ltd.; CMA CGM, S.A.; COSCO Container Lines Company, Ltd.; Hanjin Shipping Company, Ltd.; Hyundai Merchant Marine Co., Ltd.; Kawasaki Kisen Kaisha Ltd.; Nippon Yusen Kaisha; Yang Ming Marine Transport Corp.; Zim Integrated Shipping Services, Ltd.; Alabama State Port Authority; APM Terminals North America, Inc.; Ceres Terminals, Inc.; Cooper/T. Smith Stevedoring Co., Inc.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority; Metropolitan Stevedore Co.; P&O Ports North American, Inc.; Port of Tacoma; South Carolina State Ports Authority; Stevedoring Services of America, Inc.; Trans Bay Container Terminal, Inc.; TraPac Terminals; Universal Maritime Service Corp.; Virginia International Terminals; and Yusen Terminals, Inc.

Filing Parties: Carol N. Lambos; Lambos & Junge; 29 Broadway, 9th Floor; New York, NY 10006 and Charles T. Carroll, Jr.; Carroll & Froelich, PLLC; 2011 Pennsylvania Avenue, NW.; Suite 301; Washington, DC 20006.

Synopsis: The amendment deletes Hapag Lloyd Container Linie GmbH as a member to the agreement.

Agreement No.: 011863-001.

Title: CMA-CGM/P&O Nedlloyd/Hapag-Lloyd Space Charter Agreement.

Parties: CMA CGM, S.A.; P&O Nedlloyd Limited; and P&O Nedlloyd B.V.; and Hapag-Lloyd Container Linie GmbH.

Filing Party: Wayne R. Rohde, Esq.; Sher & Blackwell; 1850 M Street, NW., Suite 900; Washington, DC 20036.

Synopsis: The proposed modification would, among other things, reduce the amount of space exchanged, allow CMA to sell space directly to Hapag-Lloyd, and restate the agreement.

Agreement No.: 011892.

Title: CSCL/CMA CGM Cross Slot Charter Agreement.

Parties: China Shipping Container Lines Co., Ltd.; China Shipping Container Lines (Hong Kong) Co., Ltd., and CMA CGM, S.A.

Filing Party: Brett M. Esber, Esq.; Blank Rome LLP; 600 New Hampshire Avenue, NW.; Watergate; Washington, DC 20037.

Synopsis: The proposed agreement is a vessel-sharing agreement between the parties in the trade between U.S. East and Gulf ports and ports in the Far East.

By Order of the Federal Maritime Commission.
Dated: December 17, 2004.
Bryant L. VanBrakle,
Secretary.

[FR Doc. 04-28017 Filed 12-21-04; 8:45 am]

BILLING CODE 6730-01-P